DEPARTMENT OF COMMERCE

National Oceanic and Atmospheric Administration

[I.D.081500B]

Marine Mammals; File No. 358-1585

AGENCY: National Marine Fisheries Service (NMFS), National Oceanic and Atmospheric Administration (NOAA), Commerce.

ACTION: Receipt of application.

SUMMARY: Notice is hereby given that Wayne L. Regelin (Principal Investigator: Robert Small), Division of Wildlife Conservation, Alaska Department of Fish and Game, 333 Raspberry Road, Anchorage, Alaska 99518, has applied in due form for a permit to take harbor seals (Phoca vitulina), spotted seals (Phoca largha), ringed seals (Phoca hispida), bearded seals (Erignathus barbatus), and ribbon seals (Phoca fasciata) for the purposes of scientific research.

DATES: Written or telefaxed comments must be received on or before September 25, 2000.

ADDRESSES: The application and related documents are available for review upon written request or by appointment in the following office(s):

Permits and Documentation Division, Office of Protected Resources, NMFS, 1315 East-West Highway, Room 13130, Silver Spring, MD 20910 (301/713-2289); and

Alaska Region, NMFS, P.O. Box 21668, Juneau, AK 99802-1668; phone (907)586-7221; fax (907)586-7249.

FOR FURTHER INFORMATION CONTACT: Simona Roberts or Ruth Johnson, 301/713-2289.

SUPPLEMENTARY INFORMATION: The subject permit is requested under the authority of the Marine Mammal Protection Act of 1972, as amended (MMPA; 16 U.S.C. 1361 et seq.), the Regulations Governing the Taking and Importing of Marine Mammals (50 CFR part 216), and the Fur Seal Act of 1966, as amended (16 U.S.C. 1151 et seq.).

The applicant requests authority to take harbor seals, spotted seals, ringed seals, bearded seals and ribbon seals in Alaska. The applicant proposes to capture, sample and tag a total of 1,000 harbor seals, 500 spotted seals, 250 ringed seals, 250 bearded seals and 250 ribbon seals over a 5-year period throughout Alaska. Additionally, harbor seals may be incidentally harassed during scat collection and aerial surveys. Export of biological samples worldwide and collection of biological samples from subsistence harvested animals is also proposed.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: August 21, 2000.
Ann D. Terbush,
Chief, Permits and Documentation Division, Office of Protected Resources, National Marine Fisheries Service.

[FR Doc. 00-21802 Filed 8-24-00; 8:45 am]

Billing Code: 3510-22-S